DEPARTMENT OF EDUCATION

Draft Policy Statement on Developing Student Achievement Levels for the National Assessment of Educational Progress

AGENCY: National Assessment Governing Board, U.S. Department of Education.

ACTION: Notice of opportunity for public comment for policy statement on Student Achievement Levels for the National Assessment of Educational Progress (NAEP).

SUMMARY: The National Assessment Governing Board (Governing Board) is soliciting public comment for guidance in finalizing a revised policy on Developing Student Achievement Levels for the National Assessment of Educational Progress (NAEP).

The Governing Board is authorized to formulate policy guidelines for NAEP. The NAEP legislation specifies that the Governing Board is to develop appropriate student achievement levels for each subject and grade tested. Such levels are determined by identifying the knowledge and skills that can be measured and verified using widely accepted professional assessment standards. It is anticipated that the revised policy on Developing Student Achievement Levels for NAEP will be presented for approval at the National Assessment Governing Board quarterly meeting on November 15-17, 2018.

Public and private parties and organizations are invited to provide written comments and recommendations. Voluntary participation by all interested parties is urged. This notice sets forth the review schedule and provides information for accessing additional materials that will be useful for this review.

DATES: Comments must be received no later than September 30, 2018.

ADDRESSES: Comments may be provided via email at NAEPALSpolicy@ed.gov and may also be mailed to the following address: NAEP Achievement Level Setting Policy, National Assessment Governing Board, 800 North Capitol Street NW, Suite 825, Washington, DC 20002.

FOR FURTHER INFORMATION CONTACT: Sharyn Rosenberg, National Assessment Governing Board, 800 North Capitol Street NW, Suite 825, Washington, DC 20002-4233, Telephone: (202) 357-6940.

SUPPLEMENTARY INFORMATION: All responses will be taken into consideration before finalizing the updated policy on Developing Achievement levels for NAEP for Board adoption. Once adopted, the policy will be used in setting and reporting achievement levels for NAEP assessments.

Additional information (including the materials referenced below) can be found on the Governing Board website at https://www.nagb.gov/news-and-events/calendar/public-comment-on-als-policy.html.

Proposed Revised Policy on Developing Student Achievement Levels for the National Assessment of Educational Progress

The proposed revised policy can be downloaded from the Governing Board website.

Existing Policy on Developing Student Performance Levels for the National Assessment of Educational Progress

The existing policy (adopted in 1995) can be downloaded from the Governing Board website.

Governing Board's Formal Response to the Evaluation of NAEP Achievement Levels

From 2014-2016, the National Academies of Sciences, Engineering, and Medicine conducted an independent evaluation of the NAEP achievement levels. The Governing Board's formal response to the recommendations put forth in the evaluation noted that the revision of the Board policy on developing achievement levels for NAEP would specify a process and timeline for conducting regularly recurring reviews of the achievement level descriptions and would be explicit about the conditions that necessitate consideration of a new standard setting. More information about the evaluation and the Governing Board's response can be found on the Governing Board website. A link to the final report from the evaluation can be found on the Governing Board website.

Summary of Proposed Revisions

Compared to the existing 1995 policy on Developing Student Performance Levels for NAEP, the proposed revised policy reflects:

• Reorganization of principles, streamlining of language, minimization of redundancies

• Minor (non-substantive) edits to the NAEP policy definitions for clarity

• A change in terminology from Proficient to NAEP Proficient to better differentiate the NAEP achievement levels from other common uses of Basic, Proficient, Advanced

• A new principle on periodic review of achievement level descriptions and cut scores, prompted by the Board's response to the evaluation of NAEP achievement levels

• A new principle to clarify participation of multiple stakeholders at various points throughout process

• A new principle to summarize the role of the Board

• Reference to an interpretative guide that would accompany the release of NAEP results and explain how the achievement levels should (and should not) be used

• Reference to multiple types of achievement level descriptions (ALDs), including reporting ALDs that would be created using empirical data and written in terms of what students do know and can do rather than what students should know and be able to do

• Clarification on the standard setting participants, in particular the non-educator group

• Additional details about the achievement level setting process, including some practices that have become institutionalized over time (e.g., the use of “impact data”)

• Removal of details on implementation directed to staff and contractors, which will instead be included in a “procedures manual”

Electronic Access to This Document: You may view this document, as well as all other documents of this Department published in the Federal Register, in text or Adobe Portable Document Format (PDF) on the internet at the following site: http://www.ed.gov/news/fedregister/index.html. To use PDF you must have Adobe Acrobat Reader, which is available free at this site. If you have questions about using PDF, call the U.S. Government Printing Office (GPO), toll free at 1-888-293-6498; or in the Washington, DC, area at (202) 512-1530.

Note: The official version of this document is the document published in the Federal Register. Free internet access to the official edition of the Federal Register and the Code of Federal Regulations is available on GPO Access at: www.gpoaccess.gov/nara/index.html.

Dated: September 5, 2018.
Lisa Stooksberry,
Deputy Executive Director, National Assessment Governing Board, U.S. Department of Education.

[FR Doc. 2018-19650 Filed 9-7-18; 8:45 am]

BILLING CODE 4000-01-P